DEPARTMENT OF COMMERCE

National Oceanic and Atmospheric Administration

50 CFR Part 679

[Docket No. 250312-0037; RTID 0648-XF395]

Fisheries of the Exclusive Economic Zone Off Alaska; Inseason Adjustment to the 2026 Gulf of Alaska Pacific Cod Total Allowable Catch

AGENCY: National Marine Fisheries Service (NMFS), National Oceanic and Atmospheric Administration (NOAA), Commerce.

ACTION: Temporary rule; inseason adjustment; request for comments.

SUMMARY: NMFS is adjusting the 2026 total allowable catch (TAC) amounts for the Gulf of Alaska (GOA) Pacific cod fisheries. This action is necessary because NMFS has determined that these TACs are incorrectly specified and that the adjustments are necessary to ensure that harvest of Pacific cod does not exceed biological limits for the stock, as established by the best scientific information available for Pacific cod in the GOA. This action is consistent with the goals and objectives of the Fishery Management Plan for Groundfish of the Gulf of Alaska (FMP).

DATES: Effective 0001 hours, Alaska local time (A.l.t.), January 1, 2026, through March 17, 2026, unless otherwise modified or superseded through publication of the final 2026 and 2027 harvest specifications for GOA groundfish in the Federal Register.

Comments must be received at the following ADDRESSES no later than January 7, 2026.

ADDRESSES: You may submit comments on this document, identified by docket number NOAA-NMFS-2024-0124 by any of the following methods:

Electronic Submission: Submit all electronic public comments via the Federal e-Rulemaking Portal. Go to https://www.regulations.gov and enter NOAA-NMFS-2024-0124 in the Search box. Click on the “Comment” icon, complete the required fields, and enter or attach your comments.

Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Abby Jahn, 907-586-7228.

SUPPLEMENTARY INFORMATION: NMFS manages the groundfish fishery in the GOA exclusive economic zone according to the FMP prepared and recommended by the North Pacific Fishery Management Council (Council) under authority of the Magnuson-Stevens Fishery Conservation and Management Act (Magnuson-Stevens Act). Regulations governing fishing by U.S. vessels in accordance with the FMP appear at subpart H of 50 CFR part 600 and 50 CFR part 679.

The final 2025 and 2026 harvest specifications for groundfish in the GOA set the 2026 Pacific cod TAC at 22,235 metric tons (mt) in the GOA (90 FR 12468, March 18, 2025). In December 2025, the Council recommended a 2026 Pacific cod TAC of 21,826 mt for the GOA, which is less than the 22,235 mt established by the final 2025 and 2026 harvest specifications for groundfish in the GOA. The Council's recommended 2026 Pacific cod TAC for the GOA is based on the Scientific and Statistical Committee's (SSC's) overfishing limit (OFL) and acceptable biological catch (ABC) recommendations and is adjusted to account for the State of Alaska's guideline harvest level (GHL). The GHL increased from 30 to 35 percent for the Western GOA regulatory area by the Alaska Board of Fisheries (BOF) in October 2025. There were no GHL changes by the BOF for the Central GOA or Eastern GOA regulatory areas, which remain at 25 percent for both areas. However, because the GHL increased for the Western GOA regulatory area, the Western GOA TAC and GOA wide TAC must be adjusted to account for that increase to ensure that the sum of all Pacific cod removals from State waters and Federal waters in the GOA not exceed the Pacific cod ABC.

Steller sea lions occur in the same location as Pacific cod fisheries and are listed as endangered under the Endangered Species Act. Pacific cod are one of the predominant prey species for Steller sea lions in the GOA. Regulations implementing Steller sea lion protection measures include regulations at § 679.20(a)(12)(i) that specify, for each sector, the seasonal apportionment of Pacific cod TAC in the Western GOA and Central GOA regulatory areas.

Stock assessments were not completed in 2025 due to the lapse in appropriations and resulting government shutdown from October 1, 2025 through November 12, 2025. The SSC recommendations are informed by the Groundfish Plan Team's recommended OFLs and ABCs from their November 2024 meeting as well as a review of the most recent Stock Assessment and Fishery Evaluation (SAFE) report dated November 2024. The Council's TAC recommendations are based on those of its Advisory Panel, consistent with the SSC's OFL and ABC recommendations, and reflect the most recent information on the State GHL and Pacific cod.

In accordance with § 679.25(a)(1)(iii), (a)(2)(i)(A), and (a)(2)(iv), the Administrator, Alaska Region, NMFS (Regional Administrator), has determined that the 2026 Pacific cod TACs and subsequent sector allocations and seasonal apportionments are incorrectly specified and that adjustments are necessary to ensure that harvest of Pacific cod does not exceed biological limits for the stock. Without these adjustments, harvests of Pacific cod in State waters and Federal waters in the GOA could exceed the ABC which is equal to the annual catch limit and could increase the risk of overfishing. This determination is based on the November 2024 SAFE report and SSC recommendations for OFL and ABC, which is the best available scientific information on biological stock status. This determination is also based on TAC recommendations by the Council at the December 2025 meeting, and in consideration of the increase in the State GHL for the State waters fishery in the Western GOA regulatory area. The adjustments are also necessary to ensure that the Pacific cod TACs are seasonally apportioned among sectors consistent with Steller sea lion protection measures set forth in regulation (§ 679.20(a)(12)(i)(A) & (B)).

Pursuant to § 679.25(a)(1)(iii), the Regional Administrator is adjusting the 2026 GOA Pacific cod TAC to 21,826 mt. Therefore, table 2 of the final 2025 and 2026 harvest specifications for groundfish in the GOA (90 FR 12468, March 18, 2025) is revised consistent with this adjustment.

Pursuant to § 679.20(a)(6)(ii) and (a)(12)(i), table 6 of the final 2025 and 2026 harvest specifications for groundfish in the GOA (90 FR 12468, March 18, 2025) is revised for the 2026 TACs of Pacific cod in the GOA.

Table 1—Final 2026 Seasonal Apportionments and Allocation of Pacific Cod Total Allowable Catch Amounts in the GOA; Allocations in the Western GOA and Central GOA Sectors, and the Eastern GOA Inshore and Offshore Processing Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA
Jig (2.5% of TAC) | 133 | n/a | 80 | n/a | 53
Hook-and-line CV | 72 | 0.70 | 36 | 0.70 | 36
Hook-and-line CP | 1,026 | 10.90 | 565 | 8.90 | 461
Trawl CV | 1,991 | 31.54 | 1,635 | 6.86 | 356
Trawl CP | 125 | 0.90 | 47 | 1.50 | 78
All Pot CV and Pot CP | 1,971 | 19.80 | 1,027 | 18.20 | 944
Total | 5,318 | 63.84 | 3,390 | 36.16 | 1,928
Central GOA
Jig (4 of TAC) | 578 | n/a | 347 | n/a | 231
Hook-and-line <50 CV | 2,025 | 9.32 | 1,292 | 5.29 | 733
Hook-and-line ≥50 CV | 930 | 5.61 | 778 | 1.10 | 152
Hook-and-line CP | 708 | 4.11 | 570 | 1.00 | 138
Trawl CV ¹ | 5,767 | 25.29 | 3,508 | 16.29 | 2,259
Trawl CP | 582 | 2.00 | 278 | 2.19 | 304
All Pot CV and Pot CP | 3,857 | 17.83 | 2,473 | 9.98 | 1,384
Total | 14,447 | 64.16 | 9,246 | 35.84 | 5,201
Eastern GOA | Inshore (90 of Annual TAC) |  | Offshore (10 of Annual TAC)
Total | 2,061 | 1,855 |  | 206
¹ Trawl catcher vessels participating in Rockfish Program cooperatives receive 3.81 percent, or 550 mt, of the annual Central GOA TAC (see table 28c to 50 CFR part 679), which is deducted from the Trawl CV B season allowance. This inseason adjustment also updates the apportionment found in table 13 of the final 2025 and 2026 harvest specifications for groundfish in the GOA (i.e., Final 2026 Apportionments of Rockfish Secondary Species in the Central GOA to Catcher Vessel and Catcher/Processor Cooperatives) (90 FR 12468, March 18, 2025).

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data and information in a timely fashion and would allow for harvests that exceed the appropriate allocation for Pacific cod based on the most recent information available. Without an immediate adjustment decreasing Pacific cod TACs, harvests of Pacific cod in State waters and Federal waters in the GOA could exceed the ABC, and therefore the annual catch limit for Pacific cod and increase the risk of overfishing. NMFS was unable to publish a notice providing time for public comment because the most recent, relevant data and information only became available as of December 19, 2025. This action must be effective by January 1, 2026, to ensure harvests of Pacific cod are consistent with seasonal apportionments for Pacific cod that are based on regulations implementing Steller sea lion protection measures.

Without this inseason adjustment, NMFS could not allow the fishery for Pacific cod in the GOA to be harvested in an expedient manner. Under § 679.25(c)(2), interested persons are invited to submit written comments on this action to the above ADDRESSES until January 7, 2026.

There is good cause under 5 U.S.C. 553(d)(3) to establish an effective date less than 30 days after date of publication. This finding is based upon the reasons provided above for waiver of prior notice and opportunity for public comment.

Authority: 16 U.S.C. 1801 et seq.

Dated: December 19, 2025.
Kelly Denit,
Director, Office of Sustainable Fisheries, National Marine Fisheries Service.

[FR Doc. 2025-23786 Filed 12-22-25; 8:45 am]

BILLING CODE 3510-22-P